DEPARTMENT OF THE INTERIOR

National Park Service

[NPS-WASO-NAGPRA-NPS0035383; PPWOCRADN0-PCU00RP14.R50000]

Notice of Inventory Completion: Museum of Science, Boston, MA

AGENCY: National Park Service, Interior.

ACTION: Notice.

SUMMARY: In accordance with the Native American Graves Protection and Repatriation Act (NAGPRA), the Museum of Science, Boston has completed an inventory of human remains and associated funerary objects and has determined that there is a cultural affiliation between the human remains and associated funerary objects and Indian Tribes or Native Hawaiian organizations in this notice. The human remains and associated funerary objects were removed from Los Angeles or Santa Barbara County, CA.

DATES: Repatriation of the human remains and associated funerary objects in this notice may occur on or after March 27, 2023.

ADDRESSES: Rebecca Melius, Sr. Curator of Collections. Museum of Science, Boston, 1 Science Park, Boston, MA 02114, telephone (617) 589-0175, email rmelius@mos.org.

SUPPLEMENTARY INFORMATION: This notice is published as part of the National Park Service's administrative responsibilities under NAGPRA. The determinations in this notice are the sole responsibility of the Museum of Science, Boston. The National Park Service is not responsible for the determinations in this notice. Additional information on the determinations in this notice, including the results of consultation, can be found in the inventory or related records held by the Museum of Science, Boston.

Description

Human remains representing, at minimum, one individual were removed from Los Angeles or Santa Barbara County, CA. Incomplete provenance information indicates the human remains are those of a 35-year-old Native American female. Her incomplete skeleton and funerary objects were removed from an unidentified island off the coast of California and most likely were donated to the education department of the Museum of Science in 1975 by a member of the public. The donor is listed as a Mr. John Smith, of Huntington Beach, CA. The five associated funerary objects are two pieces of unmodified shell and three pieces of probable unmodified fish bone.

Cultural Affiliation

The human remains and associated funerary objects in this notice are connected to one or more identifiable earlier groups, tribes, peoples, or cultures. There is a relationship of shared group identity between the identifiable earlier groups, tribes, peoples, or cultures and one or more Indian Tribes or Native Hawaiian organizations. The following types of information were used to reasonably trace the relationship: geographical, ethnographic, and archeological.

Determinations

Pursuant to NAGPRA and its implementing regulations, and after consultation with the appropriate Indian Tribes and Native Hawaiian organizations, the Museum of Science, Boston has determined that:

• The human remains described in this notice represent the physical remains of one individual of Native American ancestry.

• The five objects described in this notice are reasonably believed to have been placed with or near individual human remains at the time of death or later as part of the death rite or ceremony.

• There is a relationship of shared group identity that can be reasonably traced between the human remains and associated funerary objects described in this notice and the Santa Ynez Band of Chumash Mission Indians of the Santa Ynez Reservation, California.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after March 27, 2023. If competing requests for repatriation are received, the Museum of Science, Boston must determine the most appropriate requestor prior to repatriation. Requests for joint repatriation of the human remains and associated funerary objects are considered a single request and not competing requests. The Museum of Science, Boston is responsible for sending a copy of this notice to the Indian Tribe identified in this notice.

Authority: Native American Graves Protection and Repatriation Act, 25 U.S.C. 3003, and the implementing regulations, 43 CFR 10.9, § 10.10, and § 10.14.

Dated: February 15, 2023.
Melanie O'Brien,
Manager, National NAGPRA Program.

[FR Doc. 2023-03813 Filed 2-23-23; 8:45 am]

BILLING CODE 4312-52-P